Title 3—

The President

Proclamation 10954 of June 17, 2025

250th Anniversary of the Battle of Bunker Hill

By the President of the United States of America

A Proclamation

On this day 250 years ago, a fearless band of American patriots stood their ground against the mightiest military power of the age at the Battle of Bunker Hill. Outmanned, outgunned, and underestimated, these ordinary men exemplified extraordinary courage and sent a thundering message to Britain and the entire world that the American people would never waver in their fight for freedom.

A new revolutionary spirit had been awakened in the American Colonies following the Battles of Lexington and Concord in April 1775. In the weeks that followed, thousands of Colonial militiamen from Massachusetts, Connecticut, New Hampshire, and Rhode Island—exhausted and fed up with the escalating tyranny of the British Crown—left behind their homes, farms, and families to rally to the cause of independence. By June, they had assembled around Boston—the center of British power in New England—to contain nearly 5,000 Redcoats, protect nearby towns, and prevent British forces from moving beyond the city.

After learning of British plans to seize the Charlestown peninsula to the north of Boston, Colonial leaders acted swiftly. On the night of June 16, 1775, over 1,000 American militiamen, led by Colonel William Prescott, marched to Charlestown and constructed fortifications atop Breed's Hill—ready to defend their homeland at any cost necessary. The next day, on June 17, nearly 2,200 Redcoats arrived, initiating a direct attack to drive the Americans off the hill. Significantly outnumbered and low on ammunition, Colonel Prescott gave the famous order to his fellow soldiers: “Don't fire until you see the whites of their eyes!” When the moment came and the British advanced, the Patriots held firm. Wave after wave, the Redcoats charged, only to be driven back as the colonists inflicted massive casualties and held their ground with unshakable grit and resolve.

After two failed assaults, the Redcoats launched a third charge up the hill. The patriots, nearly out of ammunition, met the British in brutal hand-to-hand combat. Though ultimately forced to retreat, the colonists inflicted staggering losses. More than 1,000 British soldiers were killed or wounded, compared to 450 Americans. Charlestown was left in ruins, but the American spirit stood taller than ever. Though the British claimed the ground that history would remember as Bunker Hill, it was the patriots who claimed the victory of morale—etched not in territory but in valor—proving that the cause of freedom, once awakened, is an unstoppable force.

Today, we celebrate the courage, determination, and selflessness of the patriots who fought at Bunker Hill. They sent a message to Britain and the entire world that the Americans would not be ruled by fear and that a free people, united in purpose, is the most powerful force on Earth. The spirit of Bunker Hill lives on in every soldier who defends this land, in every citizen who loves their country, and in every patriot who believes that America's best days are still ahead.

NOW, THEREFORE, I, DONALD J. TRUMP, President of the United States of America, by virtue of the authority vested in me by the Constitution and the laws of the United States, do hereby proclaim June 17, 2025, as a day in commemoration of the 250th anniversary of the Battle of Bunker Hill.

IN WITNESS WHEREOF, I have hereunto set my hand this seventeenth day of June, in the year of our Lord two thousand twenty-five, and of the Independence of the United States of America the two hundred and forty-ninth.

[FR Doc. 2025-11555

Filed 6-20-25; 11:15 am]

Billing code 3395-F4-P